DEPARTMENT OF TRANSPORTATION

Federal Motor Carrier Safety Administration

[Docket No. FMCSA-2000-7165]

Qualification of Drivers; Exemption Applications; Vision

AGENCY: Federal Motor Carrier Safety Administration (FMCSA), DOT.

ACTION: Notice of petitions and intent to grant applications for exemption; request for comments.

SUMMARY: This notice announces the FMCSA's preliminary determination to grant the applications of 63 individuals for an exemption from the vision requirements in the Federal Motor Carrier Safety Regulations (FMCSRs). Granting the exemptions will enable these individuals to qualify as drivers of commercial motor vehicles (CMVs) in interstate commerce without meeting the vision standard prescribed in 49 CFR 391.41(b)(10).

DATES: Comments must be received on or before June 22, 2000.

ADDRESSES: Your written, signed comments must refer to the docket number at the top of this document, and you must submit the comments to the Docket Clerk, U.S. DOT Dockets, Room PL-401, 400 Seventh Street, SW., Washington, DC 20590-0001. All comments will be available for examination at the above address between 9 a.m. and 5 p.m., e.t., Monday through Friday, except Federal holidays. Those desiring notification of receipt of comments must include a self-addressed, stamped envelope or postcard.

FOR FURTHER INFORMATION CONTACT: For information about the vision exemptions in this notice, Ms. Sandra Zywokarte, Office of Bus and Truck Standards and Operations, (202) 366-2987; for information about legal issues related to this notice, Ms. Judith Rutledge, Office of the Chief Counsel, (202) 366-2519, FMCSA, Department of Transportation, 400 Seventh Street, SW., Washington, DC 20590. Office hours are from 7:45 a.m. to 4:15 p.m., e.t., Monday through Friday, except Federal holidays.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara.

Creation of New Agency

On December 9, 1999, the President signed the Motor Carrier Safety Improvement Act of 1999 (Public Law 106-159, 113 Stat. 1748). The new statute established the Federal Motor Carrier Safety Administration in the Department of Transportation. On January 4, 2000, the Secretary rescinded the authority previously delegated to the Office of Motor Carrier Safety (OMCS) (65 FR 220). This authority is now delegated to the FMCSA.

The motor carrier functions of the OMCS’ Resource Centers and Division (i.e., State) Offices have been transferred to FMCSA Service Centers and FMCSA Division Offices, respectively. Rulemaking, enforcement, and other activities of the Office of Motor Carrier Safety while part of the FHWA, and while operating independently of the FHWA, will be continued by the FMCSA. The redelegation will cause no changes in the motor carrier functions and operations previously handled by the FHWA or the OMCS. For the time being, all phone numbers and addresses are unchanged.

Background

Sixty-three individuals have requested an exemption from the vision requirement in 49 CFR 391.41(b)(10), which applies to drivers of CMVs in interstate commerce. Under 49 U.S.C. 31315 and 31136(e), the FMCSA (and previously the FHWA) may grant an exemption for a renewable 2-year period if it finds “such exemption would likely achieve a level of safety that is equivalent to, or greater than, the level that would be achieved absent such exemption.” Accordingly, the FMCSA has evaluated each of the 63 exemption requests on its merits, as required by 49 U.S.C. 31315 and 31136(e), and preliminarily determined that exempting these 63 applicants from the vision requirement in 49 CFR 391.41(b)(10) is likely to achieve a level of safety equal to, or greater than, the level that would be achieved without the exemption.

Qualifications of Applicants

1. Elijah Allen, Jr.

Mr. Elijah Allen, 36, has amblyopia in his left eye. His best corrected visual acuity is 20/20 in the right eye and 20/400 in the left eye. He was examined in 1999 by an ophthalmologist who stated, “In my opinion, because of his current driving record, I believe he has sufficient vision to perform the tasks that he needs in order to operate a commercial vehicle.”

Mr. Allen has driven tractor-trailer combination vehicles for 14 years, accumulating over 2 million miles. He holds an Arkansas Class A CDL. His official driving record shows no accidents or convictions of moving violations in a CMV for the past 3 years.

2. Charles Leon Baney

Mr. Charles Leon Baney, 61, has amblyopia in his right eye. His best corrected visual acuity is 20/20 in his left eye and 20/400 in the right eye. He was examined in 1999 and his optometrist stated, “My clinical impression is that Mr. Baney's vision is sufficient to perform the driving tasks required to operate a commercial vehicle.”

Mr. Baney has driven straight trucks for 5 years, accumulating 60,000 miles; tractor-trailer combination vehicles for 6 years, accumulating over 540,000 miles; and buses for 2 years, accumulating over 4,000 miles. He holds an Illinois CDL. His official driving record shows no accidents or convictions of moving violations in a CMV for the past 3 years.

3. Walter F. Blair

Mr. Walter F. Blair, 63, has been blind in his left eye since the age of 5 due to trauma. The visual acuity in his right eye is 20/20, uncorrected. He was examined in 1999 by an optometrist who stated, “In my medical opinion, this person has sufficient vision to perform the driving tasks required to operate a commercial vehicle.”

Mr. Blair has driven straight trucks for 31 years, accumulating 620,000 miles. He holds a Tennessee Class B CDL. His official driving record shows no accidents or convictions of moving violations in a CMV during the past 3 years.

4. Jullie A. Bolster

Ms. Jullie A. Bolster, 50, has had diffuse haze and corneal scarring due to severe keratitis in her left eye since 1995. Her best corrected visual acuity is 20/20 in her right eye and 20/200 in her left eye. She was examined in 1999 by an ophthalmologist who stated, “I feel at this time she has sufficient vision to perform driving tasks required to operate a commercial vehicle.”

Ms. Bolster has driven tractor-trailer combination vehicles for over 6.5 years, accumulating over 260,000 miles. She holds a Montana Class A CDL. Her official driving record shows no accidents or convictions of moving violations in a CMV for the last 3 years.

5. Gary Bryan

Mr. Gary Bryan, 51, has had an ocular toxoplasmosis scar in his right eye since childhood. His best corrected visual acuity is 20/20 in the left eye and 20/400 in the right eye. He was examined in 1999 by an optometrist who stated, “His vision is sufficient to perform the driving tasks required to operate a commercial vehicle.”

Mr. Bryan has driven straight trucks for 10 years, accumulating 250,000 miles and tractor-trailer combination vehicles for 15 years, accumulating 525,000 miles. He holds a Montana Class A CDL. His official driving record shows no accidents and no convictions of moving violations in a CMV for the last 3 years.

6. Timothy John Bryant

Mr. Timothy John Bryant, 42, has had optic nerve damage in his left eye since birth. His best corrected vision is 20/20 in his right eye and 20/200 in his left eye. He was examined in 1999 by an ophthalmologist who stated, “I feel that Mr. Bryant's vision is adequate to operate a commercial vehicle.”

Mr. Bryant has operated straight trucks for 10 years, accumulating 500,000 miles and tractor-trailer combination vehicles for 4 years, accumulating over 260,000 miles. He holds a Florida Class A CDL. His official driving history shows no accidents or convictions of moving violations in a CMV for the last 3 years.

7. Thomas A. Burke

Mr. Thomas A. Burke, 56, has amblyopia in his left eye. His best corrected visual acuity is 20/20 in the right eye and 20/100 in the left eye. He was examined in 1999 by an ophthalmologist who stated, “In view of his driving record and experience and the fact that nothing has changed, that his vision is stable, I feel that he is definitely safe to qualify to continue driving a commercial vehicle.”

Mr. Burke has driven tractor-trailer combination vehicles for 20 years, accumulating over 425,000 miles. He holds a Michigan Class A CDL. His official driving record shows no accidents and no convictions of moving violations in a CMV for the last 3 years.

8. Monty Glenn Calderon

Mr. Monty Glenn Calderon, 34, has amblyopia in his right eye. His best corrected visual acuity is 20/20 in his left eye and 20/400 in his right eye. According to a 1999 examination, his ophthalmologist stated, “Mr. Calderon should be able to operate a commercial vehicle.”

Mr. Calderon has driven a straight truck for 4 years and has accumulated 180,000 miles of driving. He holds an Ohio Class A CDL. His official driving record shows no accidents or convictions of moving violations in a CMV in the last 3 years.

9. Ronald Lee Carpenter

Mr. Ronald Lee Carpenter, 56, has amblyopia in his left eye. His best corrected visual acuity is 20/20 in his right eye and 20/100 in his left eye. He was examined in 1999 by his optometrist who stated, “In my opinion, Mr. Carpenter has the visual skills to perform the driving tasks required to operate a commercial vehicle.”

Mr. Carpenter has driven tractor-trailer combination vehicles for 20 years, totaling 200,000 miles. He holds an Oklahoma CDL. His official driving record shows no accidents and no convictions of any moving violations in a CMV during the past 3 years.

10. Charles Casey Chapman

Mr. Charles Casey Chapman, 30, has reduced vision in his right eye due to trauma at the age of 10. His best corrected visual acuity is 20/20 in the left eye and 20/200 in the right eye. He was examined in 1999 by an optometrist who stated, “should be able to drive a truck because condition has existed over 18 yr. [sic] with no problems.”

Mr. Chapman has driven straight trucks for 7 years, accumulating 560,000 miles. He holds a North Carolina Class B CDL. His official driving record shows no accidents or convictions of moving violations in a CMV for the last 3 years.

11. Milton Coleman

Mr. Milton Coleman, 52, has been blind in his right eye since the age of 3 due to an injury. His best corrected visual acuity in his left eye is 20/20. He was examined in 1999 by an optometrist who stated, “I feel Mr. Coleman can safely operate a commercial vehicle if he utilizes a compensatory head turn toward R [sic] shoulder to widen his effective visual field.”

Mr. Coleman has driven tractor-trailer combination vehicles for 8 years, accumulating 4 million miles. He holds a California Class A CDL. His official driving record shows one accident. No injury was involved and no citations were issued to either party. The driving record shows no convictions of moving violations in a CMV for the last 3 years.

12. David Earl Corwin

Mr. David Earl Corwin, 51, has been blind in his left eye since childhood. His best corrected visual acuity is 20/20 in his right eye. He was examined in 1999, and his optometrist stated, “At this time his vision is stable and in my opinion sufficient to perform the tasks required to operate a commercial vehicle.”

Mr. Corwin has driven straight trucks for 25 years, accumulating over 1.2 million miles. He holds a Idaho CDL. His official driving record shows no accidents and no convictions of moving violations in a CMV during the past 3 years.

13. Adam D. Craig

Mr. Adam D. Craig, 56, has macular degeneration in his left eye. His best corrected visual acuity is 20/20 in his right eye and 20/200 in his left eye. According to a 1999 examination, his ophthalmologist stated, “It is my medical opinion that due to the excellent vision in the right eye and his full visual fields in both eyes, that Mr. Craig should have no restrictions to a commercial vehicle license.”

Mr. Craig has driven straight trucks for 16 years and tractor-trailer combination vehicles for 18 years, accumulating over 1.4 million miles. He holds an Indiana Class A CDL. His official driving record for the last 3 years shows no accidents or convictions of moving violations in a CMV.

14. Eric L. Dawson, III

Mr. Eric L. Dawson, 55, has had a corneal scar secondary to herpes zoster in his left eye since 1986. His best corrected visual acuity is 20/20 in his right eye and 20/80 in his left eye. He was examined in 1999, and his ophthalmologist stated that, in her medical opinion, Mr. Dawson has sufficient vision to perform the driving tasks required to operate a commercial vehicle.

Mr. Dawson has driven straight trucks for 38 years and tractor-trailer combination vehicles for 25 years, accumulating over 1.6 million miles. He holds a North Carolina CDL. His official driving record shows no accidents or convictions for moving violations in a CMV for the last 3 years.

15. Richard L. Derick

Mr. Richard L. Derick, 46, has amblyopia in his left eye. His best corrected visual acuity is 20/20 in the right eye and 20/400 in the left eye. He was examined in 1999 by an optometrist who stated, “I do not feel that the central visual condition in his left eye will significantly detract from his ability to safely drive a commercial vehicle, if at all.”

Mr. Derick has driven straight trucks for 4 years, accumulating 120,000 miles and tractor-trailer combination vehicles for 12 years, accumulating over 1.2 million miles. He holds a New Hampshire Class A CDL. His official driving record shows no accidents and no convictions of moving violations in a CDL for the last 3 years.

16. Joseph A. Dunlap

Mr. Joseph A. Dunlap, 34, has amblyopia in his left eye. His best corrected visual acuity is 20/20 in the right eye and 20/80− in the left eye. He was examined in 1999 and his ophthalmologist stated, “He, to my knowledge, has an excellent driving record with no history of accidents or traffic violations. This record has been achieved with his present visual status, and as long as the results of his current visual exam meet your requirements, I see no reason why he cannot continue to drive a commercial vehicle.”

Mr. Dunlap has driven straight trucks for 13 years and tractor-trailer combination vehicles for 9 years, accumulating over 600,000 miles. He holds an Ohio CDL. His official driving record shows no accidents or convictions of moving violations in a CMV for the last 3 years.

17. John C. Edwards, Jr.

Mr. John C. Edwards, 63, has longstanding macular scarring in his right eye. His best corrected visual acuity is 20/40 in his left eye and 20/400 in his right eye. He was examined in 1999, and his ophthalmologist stated, “In my opinion Mr. Edwards’ vision has not deviated and has been stable for well over ten years. I expect his vision to remain that way. I feel he has maintained the ability to operate a commercial vehicle.”

Mr. Edwards has driven straight trucks for 8 years and tractor-trailer combination vehicles for 26 years, accumulating over 3 million miles. He holds a Mississippi CDL. His official driving record shows no accidents or convictions of moving violations in a CMV in the last 3 years.

18. Calvin J. Eldridge

Mr. Calvin J. Eldridge, 55, is blind in his right eye due to an injury at age twelve. His best corrected visual acuity in his left eye is 20/15. He was examined by his optometrist in 1999 who stated, “In my opinion, Calvin Eldridge has sufficient vision to perform the driving tasks required to operate a commercial vehicle.”

Mr. Eldridge has driven tractor-trailer combination vehicles for 27 years and a total of 2.7 million miles. He has a Washington CDL. His official driving record shows no accidents and 2 non-serious speeding violations in a CMV during the past 3 years.

19. Ronald G. Ellwanger

Mr. Ronald G. Ellwanger, 65, has macular degeneration in his right eye. His best corrected visual acuity is 20/20 in the left eye and 20/80 in the right eye. He was examined in 1999 and his ophthalmologist stated, “I certify that this patient has sufficient vision to safely perform the driving tasks required to operate a commercial vehicle.”

Mr. Ellwanger has driven straight trucks for 40 years, accumulating at least 2 million miles during that period. He holds a Virginia CDL. His official driving record shows no accidents or convictions of moving violations in a CMV during the last 3 years.

20. Marcellus Albert Garland

Mr. Marcellus Albert Garland, 61, has been blind in his left eye due to an accident since 1967. His best corrected visual acuity in his right eye is 20/20. He was examined by an optometrist in 1999 who stated, “In my professional opinion Mr. Garland has sufficient visual function to perform the driving tasks required to operate a commercial vehicle.”

Mr. Garland has driven straight trucks for 3 years, accumulating 90,000 miles and tractor-trailer combination vehicles for 31 years, accumulating 2.5 million miles. He holds a California Class A CDL. His official driving record shows 1 accident in a CMV in which there were no injuries and no citations issued. It also shows one speeding violation in a CMV during the last 3 years.

21. George J. Ghigliotty

Mr. George J. Ghigliotty, 56, has amblyopia in his right eye. His best corrected visual acuity is 20/20 in the left eye and 20/60 in the right eye. He was examined in 1999 by an optometrist who stated, “It is my opinion that this patient has sufficient vision to drive a commercial vehicle.”

Mr. Ghigliotty has driven tractor-trailer combination vehicles for 38 years, accumulating 3.8 million miles. He holds a Florida Class A CDL. His official driving record shows no accidents or convictions of moving violations in a CMV for the past 3 years.

22. Ronald E. Goad

Mr. Ronald E. Goad, 53, has worn a prosthesis in his left eye since 1956 due to an accident. His best corrected visual acuity in his right eye is 20/20. He was examined by his optometrist in 1999 who stated, “Mr. Ronald Goad has sufficient vision to operate a commercial vehicle.”

Mr. Goad has driven straight trucks for 33 years totaling more than 260,000 miles and tractor-trailer combination vehicles for 10 years, having accumulated anywhere between 5,000 and 75,000 miles per year, depending on the company for which he was employed. He holds a Maryland CDL. His official driving record shows no accidents or convictions of moving violations in a CMV during the past 3 years.

23. Steven F. Grass

Mr. Steven F. Grass, 30, has been blind in his left eye since the age of 2 due to injury. His best corrected visual acuity in his right eye is 20/20. He was examined in 1999 by an optometrist who stated, “Mr. Grass is very well adapted to using only the vision in his right eye. He is able to function normally. I believe that there is no reason for him to not be able to operate a commercial vehicle safely.”

Mr. Grass has operated tractor-trailer combination vehicles for 6 years, accumulating over 300,000 miles and straight trucks for 1 year, accumulating 10,000 miles. He holds a New Mexico Class A CDL. His official driving record shows no accidents and one conviction of a moving violation (Failure to Obey Traffic Signal/Light) in a CMV during the last 3 years.

24. Randolph D. Hall

Mr. Randolph D. Hall, 59, has had reduced vision in his right eye since childhood, probably as the result of an infection of the macula. His best corrected visual acuity is 20/20 in his left eye and 20/800 in his right eye. He was examined in 1999 by an optometrist who stated, “In my opinion, with his excellent vision in his left eye and great peripheral vision in both eyes, there is no reason why he can't operate a commercial truck and trailer.”

Mr. Hall has operated tractor-trailer combination vehicles for 29 years, accumulating over 2 million miles. He holds a Florida Class A CDL. His official driving record shows no accidents and no convictions of moving violations in a CMV for the past 3 years.

25. Reginald I. Hall

Mr. Reginald I. Hall, 43, has amblyopia in his left eye. His best corrected visual acuity is 20/20 in the right eye and 20/200 in the left eye. He was examined in 1999 by an ophthalmologist who stated, “Based upon my medical opinion, Mr. Hall has shown an exemplary driving record and has sufficient vision to operate a commercial vehicle.”

Mr. Hall has driven straight trucks for 12 years, accumulating 432,000 miles and tractor-trailer combination vehicles for 10 years, accumulating 540,000 miles. He holds a Texas Class A CDL. His official driving record shows no accidents and no convictions of moving violations in a CMV for the last 3 years.

26. Sherman William Hawk, Jr.

Mr. Sherman William Hawk, Jr., 48, has a long-standing retinal scar in his left eye. His best corrected visual acuity is 20/20 in his right eye and 20/150 in his left eye. He was examined in 1999 by an optometrist who stated, “In my professional opinion, Mr. Hawk possesses sufficient vision to perform the driving tasks required to operate a commercial vehicle.”

Mr. Hawk has driven straight trucks for 13 years, accumulating over 800,000 miles and tractor-trailer combination vehicles for 10 years, accumulating 600,000 miles. He holds a Maryland Class AM CDL. His official driving record shows no accidents and no convictions of moving violations in a CMV for the last 3 years.

27. Daniel J. Hillman

Mr. Daniel J. Hillman, 56, has a history of retinal disease which has caused a significant loss of visual acuity in the right eye. His best corrected vision is 20/25-3 in the left eye and 20/70 in the right eye. He was examined in 1999 by an optometrist who stated, “I feel Daniel Hillman is visually capable of performing well as a commercial driver.”

Mr. Hillman has driven tractor-trailer combination vehicles for 28 years, accumulating 2.8 million miles. He holds a Washington Class A CDL. His official driving record shows no accidents or convictions of moving violations in a CMV for the last 3 years.

28. Gordon William Howell

Mr. Gordon William Howell, 45, has been blind in his right eye for the last 10 years. His best visual acuity in his left eye is 20/20 uncorrected. He was examined by an ophthalmologist in 1999 who stated, “He has been driving commercial last 12 yr [sic] so it is my opinion he has sufficient vision to do so.”

Mr. Howell has driven tractor-trailer combination vehicles for 22 years, accumulating more than 330,000 miles. He holds a Washington Class A CDL. His official driving record shows no accidents or convictions of moving violations in a CMV for the last 3 years.

29. Roger Louis Jacobson

Mr. Roger Louis Jacobson, 72, suffered permanent, stable visual loss in his right eye as the result of an accident in 1968. His best corrected visual acuity is 20/20 in the left eye and light perception in the right eye. He was examined in 1999 by an ophthalmologist who stated, “Mr. Jacobson's long standing visual acuity and performance as a monocular driver more than qualifies him to operate a commercial motor vehicle throughout the United States.”

Mr. Jacobson has driven straight trucks for 4 years, accumulating 4,800 miles and tractor-trailer combination vehicles for 49 years, accumulating over 4 million miles. He holds an Arizona Class A CDL. His official driving record shows no accidents or convictions of moving violations in a CMV for the last 3 years.

30. Robert C. Jeffres

Mr. Robert C. Jeffres, 58, has been blind in his left eye due to injury since 1991. His best corrected visual acuity is 20/15 in the right eye. He was examined by an optometrist in 1999 who stated, “In my medical opinion Robert Jeffres has sufficient vision to perform the driving tasks required to operate a commercial vehicle.”

Mr. Jeffres has driven straight trucks for 41 years, accumulating 205,000 miles and tractor-trailer combination vehicles for 30 years, accumulating 2.4 million miles. He holds a Wyoming Class A CDL. His official driving record shows no accidents or convictions of moving violations in a CMV for the last 3 years.

31. Alfred C. Jewell, Jr.

Mr. Alfred C. Jewell, Jr., 45, has amblyopia in his right eye. His best corrected visual acuity is 20/20+ in the left eye and 20/100− in the right eye. He was examined in 1999 by an optometrist who stated, “This patient has been driving commercial vehicles all of his adult life. There have been no visual decreases during that time. I feel that for this individual, the vision is sufficient.”

Mr. Jewell has driven tractor-trailer combination vehicles for 27 years, accumulating over 3.7 million miles. He holds a Wyoming Class A CDL. His official driving record shows no accidents or convictions of moving violations in a CMV for the last 3 years.

32. Anton R. Kibler

Mr. Anton R. Kibler, 46, has amblyopia in his right eye. His best corrected vision is 20/20 in his left eye and 20/100+ in his right eye. He was examined by an optometrist in 1999 who stated, “In my opinion, applicant has sufficient vision to perform the driving tasks required to operate a commercial vehicle.”

Mr. Kibler has driven straight trucks for 29 years, accumulating 667,000 miles. He holds a Delaware Class B CDL. His official driving record shows no accidents or convictions of moving violations in a CMV during the last 3 years.

33. James Alonzo Kneece

Mr. James Alonzo Kneece, 67, has had poor vision in his left eye due to injury since childhood. He has optic nerve damage in that eye and scarring of the retina in the centrally located area. His best corrected visual acuity is 20/20 in the right eye and 20/400 in the left eye. He was examined by an ophthalmologist in 1999 who stated, “I think because of his lifelong adaptation to the poor vision in the left eye, he is qualified to operate a commercial vehicle.”

Mr. Kneece has driven straight trucks for 2 years, accumulating 120,000 miles and tractor-trailer combination vehicles for 40 years, accumulating 3.6 million miles. He holds a Georgia Class A CDL. His official driving record shows no accidents and no convictions of moving violations in a CMV for the last 3 years.

34. Ronnie L. LeMasters

Mr. Ronnie L. LeMasters, 48, has amblyopia in his left eye. His best corrected visual acuity is 20/20 in the right eye and 20/400 in the left eye. He was examined in 1999, and his optometrist stated, “Mr. LeMasters congenital amblyopia is stable and should not affect his ability to drive a commercial vehicle.”

Mr. LeMasters has driven straight trucks for 26 years, accumulating more than 545,000 miles. He holds a West Virginia CDL. His official driving record shows no accidents or convictions for moving violations in a CMV for the last 3 years.

35. Samuel Joseph Long

Mr. Samuel Joseph Long, 33, has been blind in his right eye since 1971. His uncorrected vision in his left eye is 20/15. He was examined by an ophthalmologist in 1999 who stated, “It is my opinion that Mr. Long's vision is sufficient to perform the driving tasks required to operate a commercial vehicle.”

Mr. Long has driven straight trucks for 6 years and a total of 360,000 miles. He holds a Florida Class D license. His official driving record shows no accidents or convictions of moving violations in a CMV for the last 3 years.

36. Steven G. Luther

Mr. Steven G. Luther, 47, has a diagnosis of ocular histoplasmosis in his right eye. His visual acuity is 20/20 in the left eye and 20/200 in the right eye. He was examined by an ophthalmologist in 1999 who stated, “I think also that he has sufficient vision to perform the driving tasks required to operate a commercial vehicle.”

Mr. Luther has driven straight trucks for 25 years, accumulating 837,500 miles and tractor-trailer combination vehicles for 8 years, accumulating 8,000 miles. He holds an Iowa Class A CDL. His official driving record shows no accidents or convictions of moving violations in a CMV during the past 3 years.

37. Lewis V. McNeice

Mr. Lewis V. McNeice, 52, has been monocular since his right eye was removed approximately 34 years ago. His best corrected visual acuity in his left eye is 20/15. He was examined by his optometrist in 1999 who stated, “I believe Mr. McNeice has sufficient vision to drive commercially.”

Mr. McNeice has driven straight trucks for 34 years and tractor-trailer combination vehicles for 25 years for a total of over 3.1 million miles. He holds a Texas CDL. His official driving record for the last 3 years shows no accidents or convictions of moving violations in a CMV.

38. Barry B. Morgan

Mr. Barry B. Morgan, 57, has amblyopia in his left eye. His best corrected visual acuity is 20/15 in his right eye and 20/300 in his left eye. He was examined in 1999 by an optometrist who stated, “My impression of Mr. Morgan is that he is intelligent, alert, and thoughtful, and that he is capable, with his vision, of operating a commercial vehicle.”

Mr. Morgan has driven straight trucks and tractor-trailer combination vehicles for 6 years, accumulating 33,600 miles. He holds a Washington Class B CDL. His official driving record shows no accidents or convictions of moving violations in a CMV for the last 3 years.

39. Richard O'Neal, Jr.

Mr. Richard O'Neal, 68, has been blind in his right eye due to injury since approximately 1969. His best corrected visual acuity in his left eye is 20/20. He was examined in 1999, and his ophthalmologist stated, “it is my medical opinion that he has sufficient vision to perform the driving task required to operate a commercial vehicle.”

Mr. O'Neal has driven tractor-trailer combination vehicles for 20 years, accumulating over 800,000 miles. He holds an Indiana CDL. His official driving record shows no accidents or convictions of moving violations in a CMV during the past 3 years.

40. Dewey Owens, Jr.

Mr. Dewey Owens, Jr., 75, has worn a prosthesis in his right eye for at least 13 years since his current optometrist has been treating him. His best corrected visual acuity is 20/20 in his left eye. He was examined in 1999, and his optometrist stated, “I feel that Mr. Owens certainly has sufficient vision to continue to operate a commercial vehicle as he had demonstrated for all the years that I have known him.”

Mr. Owens has driven tractor-trailer combination vehicles of over 50 years and has accumulated over 5.5 million miles. He holds an Alabama Class AM CDL. His official driving record shows no accidents or convictions of moving violations in a CMV for the last 3 years.

41. Richard E. Perry

Mr. Richard E. Perry, 47, suffered trauma to the left eye as a child, leaving him with severely reduced vision in that eye. His best visual acuity is 20/20 in the right eye (uncorrected) and count fingers in the left. He was examined in 1999, and his ophthalmologist stated, “I certify, in my opinion, that his [Mr. Perry's] vision is sufficient to perform the driving test required to operate a commercial vehicle.”

Mr. Perry has driven straight trucks for 3 years, accumulating 75,000 miles and tractor-trailer combination vehicles for 20 years, accumulating 2.5 million miles. He holds a California CDL. His official driving record shows no convictions of moving violations in a CMV in the last 3 years. He was involved in one accident in a CMV in the last 3 years. In the accident the other driver involved was charged with an unsafe lane change. Mr. Perry was not charged with any violation.

42. Douglas McArthur Potter

Mr. Douglas McArthur Potter, 58, suffered a retinal detachment in his left eye in August 1995. His best corrected visual acuity is 20/20 in the right eye and hand motion in the left eye. He was examined in 1999 by an ophthalmologist who stated, “I see no reason why his vision would preclude him from operating a commercial vehicle.”

Mr. Potter has driven tractor-trailer combination vehicles for 30 years, accumulating 2.4 million miles and straight trucks for 41 years, accumulating 205,000 miles. He holds a Colorado Class A CDL. His official driving record shows one accident and no convictions of moving violations in a CMV for the last 3 years. There were no injuries in the accident and no citations were issued to Mr. Potter. The driver of the other vehicle involved received a citation for careless driving.

43. Gregory Martin Preves

Mr. Gregory Martin Preves, 47, has worn a prosthesis in his right eye since he was 20 years old. The visual acuity in his left eye is 20/20, corrected and uncorrected. He was examined in 1999 by an optometrist who stated, “Mr. Preves definitely has sufficient vision to perform the tasks required to operate a commercial vehicle.”

Mr. Preves has driven straight trucks and tractor-trailer combination vehicles for 9 years, accumulating approximately 450,000 miles. He holds a Georgia Class A CDL. His official driving record shows no accidents and no convictions of moving violations in a CMV for the last 3 years.

44. James M. Rafferty

Mr. James M. Rafferty, 38, has been blind in his right eye since 1974 due to trauma. His best corrected visual acuity is 20/15 in his right eye. He was examined in 1999 by an ophthalmologist who stated, “In my opinion, Mr. Rafferty has sufficient visual function to perform the driving tasks required to operate a commercial vehicle.”

Mr. Rafferty has driven straight trucks for 15 years, accumulating more than 1.2 million miles; tractor-trailer combination vehicles for 2 years, accumulating 10,000 miles; and buses for 1 year, accumulating 5,000 miles. He holds a New Hampshire Class A-MC CDL. His official driving record shows no accidents and no convictions of moving violations in a CMV for the last 3 years.

45. Paul C. Reagle, Sr.

Mr. Paul C. Reagle, 64, has age-related macular changes in his left eye, causing decreased vision. His best corrected visual acuity is 20/30 in the right eye and 20/100 in the left eye. He was examined in 1999 by his ophthalmologist who stated, “I support Mr. Reagle's application for continued use of a commercial drivers license and any questions should be directed to my Mays Landing office.”

Mr. Reagle has driven straight trucks for 10 years and 200,000 miles; tractor-trailer combination vehicles for 44 years and 2.8 million miles; and buses for 30 years totaling 600,000 miles. He holds a CDL from New Jersey. His official driving record shows no accidents or convictions of moving violations in a CMV for the past 3 years.

46. Glenn E. Robbins

Mr. Glen E. Robbins, 55, has been blind in his right eye since an automobile accident in 1963. His best corrected visual acuity is 20/20 in the left eye. He was examined in 1999 by an ophthalmologist who stated, “I hereby certify that Mr. Robbins has sufficient vision to perform the duties of his work in a commercial motor vehicle in a normal manner without endangering himself or the general public.”

Mr. Robbins has driven straight trucks for 5 years, accumulating 350,000 miles and tractor-trailer combination vehicles for 29 years, accumulating 2.9 million miles. He holds a Wyoming Class ATX CDL. His official driving record shows no accidents and no convictions of moving violations in a CMV for the last 3 years.

47. Daniel Salinas

Mr. Daniel Salinas, 43, has amblyopia in his left eye. His best corrected visual acuity is 20/15 in the right eye and 20/400 in the left eye. He was examined in 1999 by an optometrist who stated, “Daniel has sufficient vision to continue to perform the driving tasks required to operate a commercial vehicle.”

Mr. Salinas has driven straight trucks for 26 years, accumulating 2.6 million miles and tractor-trailer combination vehicles for 15 years, accumulating 1.7 million miles. He holds an Oregon Class A CDL. His official driving record shows no accidents and no convictions of a moving violation in a CMV for the last 3 years.

48. Salvador Sarmiento

Mr. Salvador Sarmiento, 49, has amblyopia in the right eye. His best corrected visual acuity is 20/20 in the left eye and 20/80 in the right eye. He was examined in 1999 by an optometrist who stated, “His ability to operate a commercial [vehicle] is not compromised with his ocular condition.”

Mr. Sarmiento has driven tractor-trailer combination vehicles for 29 years, accumulating 870,000 miles and straight trucks for 5 years, accumulating 90,000 miles. He holds a Texas Class A CDL. His official driving record shows no accidents and no convictions of moving violations in a CMV in the last 3 years.

49. Wayne Richard Sears

Mr. Wayne Richard Sears, 39, has had a macular scar in his right eye for approximately 10 years. His visual acuity is 20/20 in the left eye and 20/300 in the right eye. He was examined in 1999 by an optometrist who stated, “I believe that Mr. Sears can certainly see well enough to continue driving in a commercial vehicle.”

Mr. Sears has driven tractor-trailer combination vehicles for 16 years, accumulating 1.6 million miles and straight trucks for 2 years, accumulating 200,000 miles. He holds a Texas Class A CDL. His official driving record shows no accidents or convictions of moving violations in a CMV for the last 3 years.

50. Garry R. Setters

Mr. Garry R. Setters, 45, has amblyopia in his right eye. His best corrected visual acuity is 20/20 in the left eye and 20/60 in the right eye. He was examined in 1999 by an ophthalmologist who stated, “This patient has mild amblyopia of the right eye and, in my medical opinion, his vision is sufficient to perform his driving task with a commercial vehicle.”

Mr. Setters has driven a straight truck for 22 years, accumulating 770,000 miles. He holds a Kentucky Class DA License. His official driving record shows no accidents or convictions of moving violations in a CMV for the last 3 years.

51. Hoyt M. Shamblin

Mr. Hoyt M. Shamblin, 41, has had a corneal scar in his right eye due to injury since age 5. His best corrected visual acuity is 20/20 (-1) in his left eye and 20/200 in his right eye. He was examined in 1999 by an optometrist who stated, “It is my opinion that Mr. Shamblin has the ability to safely operate a commercial vehicle for the tasks described necessary for his present employment.”

Mr. Shamblin has driven straight trucks for 5 years, accumulating 130,000 miles. He holds a Georgia Class BM license. His official driving record shows no accidents or convictions of moving violations in a CMV for the last 3 years.

52. Lee Russell Sidwell

Mr. Lee Russell Sidwell, 37, has amblyopia in his left eye. His best corrected visual acuity is 20/15 in the right eye and 20/60 in the left eye. He was examined in 1999 by an optometrist who stated, “This letter certifies that in my medical opinion Lee Sidwell has sufficient vision to perform the driving tasks required to operate a commercial vehicle.”

Mr. Sidwell has driven both straight trucks and tractor-trailer combination vehicles for 11 years, accumulating 627,000 miles. He holds an Ohio Class A CDL. His official driving record shows no accidents and no convictions of moving violations in a CMV for the last 3 years.

53. Jesse M. Sikes

Mr. Jesse M. Sikes, 61, has been blind in his right eye since the age of 8 due to injury. His best corrected visual acuity is 20/20 in the left eye. He was examined by an optometrist in 1999 who stated, “In my opinion Mr. Sikes can safely operate a commercial vehicle as well now as he has for the last several years.”

Mr. Sikes has driven straight trucks and tractor-trailer combination vehicles for 30 years, accumulating 1.5 million miles. He holds a Wyoming Class A CDL. His official driving record shows no accidents or convictions of moving violations in a CMV for the last 3 years.

54. Harold A. Sleesman

Mr. Harold A. Sleesman, 68, has scarring in the central retina of the left eye which has been present since childhood. His best corrected visual acuity is 20/20 in the right eye and count fingers in the left eye. He was examined by an optometrist in 1999 who stated, “Based on the above findings, it is my opinion that Mr. Sleesman should have no trouble continuing to perform the tasks required in operating a commercial vehicle.”

Mr. Sleesman has driven straight trucks for 26 years, accumulating 910,000 miles. He holds an Indiana Class A-NT CDL. His official driving record shows no accidents or convictions of moving violations in a CMV for the last 3 years.

55. James E. Smith

Mr. James E. Smith, 43, has amblyopia in his left eye. His best corrected visual acuity is 20/20 in his right eye and 20/80 in his left eye. He was examined in 1999, and his optometrist stated, “Mr. Smith is able to be a safe commercial driver and is no threat on the road.”

Mr. Smith has driven both straight trucks and tractor-trailer combination vehicles for 17 years, accumulating approximately 415,000 miles. He holds a Missouri CDL. His official driving record shows no accidents or convictions of moving violations in a CMV in the last 3 years.

56. Daniel A. Sohn

Mr. Daniel A. Sohn, 44, has congenital decreased visual acuity in his right eye. His best corrected visual acuity is 20/20 in the left eye and 20/70 in the right eye. He was examined in 1999 by an optometrist who stated, “My medical opinion is that he certainly has sufficient vision to perform the driving tasks required to operate a commercial vehicle.”

Mr. Sohn has driven straight trucks and tractor-trailer combination vehicles for 14 years, accumulating 1.6 million miles. He holds a Wisconsin Class ABCDM CDL. His official driving record shows no accidents and no convictions of moving violations in a CMV for the last 3 years.

57. Denney Vern Traylor

Mr. Denney Vern Traylor, 42, has amblyopia in his left eye. His visual acuity is 20/20 in the right eye and 20/200 in the left eye. He was examined by an ophthalmologist in 1999 who stated, “Based on my examination of his eyes, it is my opinion that he has sufficient vision to operate a commercial vehicle.”

Mr. Traylor has driven tractor-trailer combination vehicles for 14 years, accumulating over 1.3 million miles. He holds a California Class AM CDL. His official driving record shows no accidents and 1 conviction for a moving violation in a CMV during the last 3 years. The conviction was for failure to obey a traffic sign.

58. Noel Stuart Wangerin

Mr. Noel Stuart Wangerin, 63, has been blind in his left eye since 1941 due to injury. His best corrected visual acuity is 20/20 in his right eye. He was examined in 1999 by an optometrist who stated, “Mr. Wangerin has 20/20 vision which is sufficient to perform the driving tasks required to operate a commercial vehicle.”

Mr. Wangerin has driven straight trucks for 7 years, accumulating 140,000 miles and tractor-trailer combination vehicles for 25 years, accumulating 2.0 million miles. He holds an Illinois Class A CDL. His official driving record shows no accidents or convictions of moving violations in a CMV for the last 3 years.

59. Brian W. Whitmer

Mr. Brian W. Whitmer, 43, has amblyopia in his right eye. His best corrected visual acuity is 20/20 in his left eye and 20/200 in his right eye. He was examined in 1999 by his optometrist who stated, “Since he has been a successful commercial driver for many years, it is my opinion that he has sufficient vision to continue performing commercial driving tasks.”

Mr. Whitmer has driven tractor-trailer combination vehicles for 4 years and 10 months, totaling approximately 300,000 miles. He holds an Ohio CDL. His official driving record shows no accidents or convictions of moving violations in a CMV during the past 3 years.

60. Jeffrey D. Wilson

Mr. Jeffrey D. Wilson, 23, has been blind in his right eye since birth as the result of optic nerve pits. His best corrected vision is 20/15 in his left eye. He was examined by an optometrist in 1999 who stated, “It is my opinion that Mr. Jeffrey Wilson has sufficient vision to be able to safely operate a commercial vehicle and should be granted an exemption from the Federal vision standard.”

Mr. Wilson has driven tractor-trailer combination vehicles for 4 years, accumulating 400,000 miles. He holds a Colorado Class A CDL. His official driving record shows no accidents and no convictions of moving violations in a CMV for the last 3 years.

61. Joseph F. Wood

Mr. Joseph F. Wood, 29, has amblyopia in his left eye. His best corrected visual acuity is 20/20 in his right eye and 20/60 in his left eye. He was examined in 1999, and his optometrist stated, “I certify that in my opinion, Joseph Wood's vision is sufficient to perform the driving tasks required to operate a commercial vehicle.”

Mr. Wood has driven straight trucks for 6 years, accumulating approximately 300,000 miles. He holds a Mississippi CDL. His official driving record shows no accidents or convictions of moving violations in a CMV for the past 3 years.

62. William E. Woodhouse

Mr. William E. Woodhouse, 41, sustained a corneal ulcer on his right eye in June 1992. His best corrected visual acuity is 20/400, pinholing to 20/200 in the right eye and 20/20 in the left eye uncorrected. He was examined in 1999 by an ophthalmologist who stated, “My medical opinion is that he has sufficient vision to perform the driving tasks required to operate a commercial vehicle.”

Mr. Woodhouse has driven tractor-trailer combination vehicles for 11 years, accumulating over 1.3 million miles. He holds an Illinois Class A CDL. His official driving record shows no accidents and no convictions of moving violations in a CMV for the last 3 years.

63. Rick A. Young

Mr. Rick A. Young, 39, has been blind in his left eye since 1982 due to injury. The visual acuity in his right eye is 20/20. He was examined in 1999 by an ophthalmologist who stated, “I feel he has sufficient vision to perform the driving tasks required to operate a commercial vehicle and has been doing this in the past with this level of vision.”

Mr. Young has driven straight trucks for 16 years, accumulating 400,000 miles and tractor-trailer combination vehicles for 10 years, accumulating 150,000 miles. He holds an Indiana Class A CDL. His official driving record shows no accidents and no convictions of moving violations in a CMV for the last 3 years.

Basis for Preliminary Determination To Grant Exemptions

Independent studies support the principle that past driving performance is a reliable indicator of an individual's future safety record. The studies are filed in FHWA Docket No. FHWA-97-2625 and discussed at 63 FR 1524, 1525 (January 9, 1998). We believe we can properly apply the principle to monocular drivers because data from the vision waiver program clearly demonstrate the driving performance of monocular drivers in the program is better than that of all CMV drivers collectively. (See 61 FR 13338, March 26, 1996.) That monocular drivers in the waiver program demonstrated their ability to drive safely supports a conclusion that other monocular drivers, with qualifications similar to those required by the waiver program, can also adapt to their vision deficiency and operate safely.

The 63 applicants have qualifications similar to those possessed by drivers in the waiver program. Their experience and safe driving record operating CMVs demonstrate that they have adapted their driving skills to accommodate their vision deficiency. Since past driving records are reliable precursors of the future, there is no reason to expect these individuals to drive less safely after receiving their exemptions. Indeed, there is every reason to expect at least the same level of safety, if not a greater level, because the applicants can have their exemptions revoked if they compile an unsafe driving record.

For these reasons, the FMCSA believes exempting the individuals from 49 CFR 391.41(b)(10) is likely to achieve a level of safety equal to, or greater than, the level that would be achieved without the exemption as long as vision in their better eye continues to meet the standard specified in 391.41(b)(10). As a condition of the exemption, therefore, the FMCSA proposes to impose requirements on the individuals similar to the grandfathering provisions in 49 CFR 391.64(b) applied to drivers who participated in the agency's former vision waiver program.

These requirements are as follows: (1) That each individual be physically examined every year (a) by an ophthalmologist or optometrist who attests that vision in the better eye meets the standard in 49 CFR 391.41(b)(10), and (b) by a medical examiner who attests the individual is otherwise physically qualified under 49 CFR 391.41; (2) that each individual provide a copy of the ophthalmologist's or optometrist's report to the medical examiner at the time of the annual medical examination; and (3) that each individual provide a copy of the annual medical certification to his or her employer for retention in its driver qualification file or keep a copy in his or her driver qualification file if he or she becomes self-employed. The driver must also have a copy of the certification when driving so it may be presented to a duly authorized Federal, State, or local enforcement official.

In accordance with 49 U.S.C. 31315 and 31136(e), the proposed exemption for each person will be valid for 2 years unless revoked earlier by the FMCSA. The exemption will be revoked if: (1) The person fails to comply with the terms and conditions of the exemption; (2) the exemption has resulted in a lower level of safety than was maintained before it was granted; or (3) continuation of the exemption would not be consistent with the goals and objectives of 49 U.S.C. 31315 and 31136. If the exemption is effective at the end of the 2-year period, the person may apply to the FMCSA for a renewal under procedures in effect at that time.

Request for Comments

In accordance with 49 U.S.C. 31315 and 31136(e), the FMCSA is requesting public comment from all interested persons on the exemption petitions and the matters discussed in this notice. All comments received before the close of business on the closing date indicated above will be considered and will be available for examination in the docket room at the above address. Comments received after the closing date will be filed in the docket and will be considered to the extent practicable, but the FMCSA may issue exemptions from the vision requirement to the 63 applicants and publish in the Federal Register a notice of final determination at any time after the close of the comment period. In addition to late comments, the FMCSA will also continue to file in the docket relevant information which becomes available after the closing date. Interested persons should continue to examine the docket for new material.

Authority: 49 U.S.C. 322, 31136 and 31315; 49 CFR 1.73.

Issued on: May 15, 2000.
Julie Anna Cirillo,
Acting Deputy Administrator, Federal Motor Carrier Safety Administration.

[FR Doc. 00-12930 Filed 5-22-00; 8:45 am]

BILLING CODE 4910-22-P